DEPARTMENT OF COMMERCE

International Trade Administration

[A-428-815]

Amended Final Determination of Sales at Less Than Fair Value: Certain Corrosion Resistant Carbon Steel Flat Products From Germany

AGENCY: Import Administration, International Trade Administration, Department of Commerce.

ACTION: Amendment to final determination of antidumping duty investigation.

SUMMARY: We are amending the cash deposit rate for Thyssen Stahl AG to 10.02% ad valorem.

EFFECTIVE DATE: February 5, 2001.

FOR FURTHER INFORMATION CONTACT: Cynthia Thirumalai, Office 1, Group 1, AD/CVD Enforcement, Import Administration, International Trade Administration, U.S. Department of Commerce, 14th Street and Constitution Avenue, NW., Washington DC 20230; telephone (202) 482-4087.

The Applicable Statute and Regulations

Unless otherwise indicated, all citations to the Tariff Act of 1930, as amended (the Act), are references to the provisions in effect as of December 31, 1994. In addition, unless otherwise indicated, all citations to the Department of Commerce's (the Department's) regulations refer to 19 CFR part 353 (April 1997).

Amended Final Determination

On September 27, 2000, the Department of Commerce published its Amended Final Determinations of Sales at Less Than Fair Value: Certain Cold-Rolled and Corrosion Resistant Carbon Steel Flat Products from Germany (68 FR 58044). In that determination, the Department stated that it was not necessary to change the cash deposit rates for Thyssen Stahl AG with respect to either product because new cash deposit rates had been established in administrative reviews subsequent to the less-than-fair-value investigations. However, an administrative review for Thyssen had been completed only with respect to cold-rolled carbon steel flat products. Therefore, we must amend the cash deposit rate for Thyssen from 4.18% to 10.02% ad valorem with respect to corrosion resistant carbon steel flat products from Germany.

Cash Deposit Instructions

The cash deposit rate of 10.02% ad valorem for Thyssen Stahl AG with respect to corrosion resistant carbon steel flat products from Germany will be effective upon publication of this notice of amended final determination on all shipments of the subject merchandise entered, or withdrawn from warehouse, for consumption on or after the publication date.

This amended final determination and notice are in accordance with section 736(a)(1) of the Act (19 U.S.C. 1675(a)(1)) and 19 CFR 353.20(a)(4).

Dated: January 26, 2001.
Bernard T. Carreau,
Fulfilling the duties of Assistant Secretary for Import Administration.

[FR Doc. 01-2982 Filed 2-2-01; 8:45 am]

BILLING CODE 3510-DS-P